DEPARTMENT OF JUSTICE

Notice of Lodging of Proposed Consent Decree Under the Oil Pollution Act

On December 21, 2012, the Department of Justice lodged a proposed consent decree with the United States District Court for the District of Hawaii in United States and the State of Hawaii v. Cape Flattery Limited et al., Civil Action No. 12-00693JMS-BMK. The proposed consent decree would require Cape Flattery Limited and Pacific Basin (HK) Limited to pay $7.5 million to resolve the United States' and the State of Hawaii's (“the State”) natural resource damage claims brought pursuant to Sections 1002 and 1006 of the Oil Pollution Act, 33 U.S.C. 2702, 2706, and Section 128D of the Hawaii Environmental Response law, Haw. Rev. Stat. § 128D.

In this action, the United States and the State seek removal costs, natural resource damages, and natural resource damage assessment costs relating to the February 2005 grounding of the M/V Cape Flattery on coral reef habitat outside the entrance channel to Barbers Point Harbor, Oahu, Hawaii. The proposed $7.5 million payment would reimburse the United States and the State for removal costs, damages to natural resources, and assessment costs.

The publication of this notice opens a period for public comment on the consent decree. Comments should be addressed to the Assistant Attorney General, Environment and Natural Resources Division, and should refer to United States and the State of Hawaii v. Cape Flattery Limited et al., D.J. Ref. No. 90-5-1-1-10600. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $5.50 (25 cents per page reproduction cost) payable to the United States Treasury.

Henry Friedman,
Assistant Section Chief, Environmental Enforcement Section, Environment and Natural Resources Division.

[FR Doc. 2013-00062 Filed 1-7-13; 8:45 am]

BILLING CODE 4410-15-P